DEPARTMENT OF ENERGY

Federal Energy Regulatory Commission

[Docket No. ER03-171-004, et al.]

Entergy Mississippi, Inc., et al.; Electric Rate and Corporate Filings

March 5, 2003.

The following filings have been made with the Commission. The filings are listed in ascending order within each docket classification.

1. Entergy Mississippi, Inc.

[Docket Nos. ER03-171-004 and ER03-589-000]

Take notice that on March 3, 2003, Entergy Services, Inc., on behalf of Entergy Mississippi, Inc., tendered for filing with the Federal Energy Regulatory Commission (Commission), compliance Interconnection Agreement pages addressing the interconnection of South Mississippi Electric Power Association's Silver Creek generating facility, in response to the Commission's January 31, 2003, order in Entergy Mississippi, Inc., 102 FERC ¶61,105.

Comment Date: March 24, 2003.

2. New England Power Pool

[Docket No. ER03-210-003]

Take notice that on March 3, 2003, ISO New England Inc., submitted a Report of Compliance in response to the January 31, 2003 order issued by the Federal Energy Regulatory Commission in the above-referenced docket.

ISO New England Inc., states that copies of this filing have been served upon NEPOOL Participants and the utility regulatory agencies of the six New England States.

Comment Date: March 24, 2003.

3. Westar Energy, Inc.

[Docket ER03-578-000]

Take notice that on March 3, 2003, Kansas Gas & Electric Company, Inc. and Westar Energy, Inc. (collectively Westar) submitted for filing a Notice of Cancellation for Rate Schedule FERC Nos. 166, 167, 210, 212 and 246, service agreements between Westar and the City of Iola, Kansas; City of Fredonia, Kansas; City of Waterville, Kansas; City of Scranton, Kansas; and City of Alma, Kansas.

Westar states that copies of this filing were served on the City of Iola, Kansas; City of Fredonia, Kansas; City of Waterville, Kansas; City of Scranton, Kansas; City of Alma, Kansas and the Kansas Corporation Commission.

Comment Date: March 24, 2003.

4. Northern States Power Company (Minnesota), Northern States Power Company, (Wisconsin)

[Docket No. ER03-579-000]

Take notice that on March 3, 2003 Northern States Power Company (Minnesota), and Northern States Power Company (Wisconsin) jointly tendered for filing revised tariffs sheets to NSP Electric Rate Schedule FERC No. 2, contained in Xcel Energy Operating Companies FERC Electric Tariff, Original Volume Number 3. The revised tariff sheets provide the annual update to Exhibits VII, VIII, and IX of the Restated Agreement to Coordinate Planning and Operations and Interchange Power and Energy between Northern States Power Company (Minnesota) and Northern States Power Company (Wisconsin), accepted for filing in Docket No. ER02-808-000. The NSP Companies request an effective date of January 1, 2003, without suspension.

The NSP Companies state that a copy of the filing has been served upon the State Commissions of Michigan, Minnesota, North Dakota, South Dakota and Wisconsin.

Comment Date: March 24, 2003.

5. PacifiCorp

[Docket No. ER03-582-000]

Take notice that on March 3, 2003, PacifiCorp tendered for filing in accordance with 18 CFR 35 of the Commission's Rules and Regulations, the 2002-03 Operating Procedures under the Pacific Northwest Coordination Agreement.

PacificCorp states that copies of this filing were supplied to the parties to the Pacific Northwest Coordination Agreement.

Comment Date: March 24, 2003.

6. Entergy Services, Inc., et al.

[Docket No. ER03-583-000]

Take notice that on March 3, 2003, Entergy Services, Inc. (ESI), on behalf of the Entergy Operating Companies, and EWO Marketing LP (EWOM), an affiliated marketer, filed under section 205 of the Federal Power Act for approval of two power purchase agreements between the Entergy Operating Companies and EWOM. ESI and EWOM seek an effective date of April 30, 2003.

ESI states that copies of this filing were served on the affected state utility commissions.

Comment Date: March 24, 2003.

7. Citizens Communications Company

[Docket No. ER03-584-000]

Take notice that on March 3, 2003, Citizens Communications Company (Citizens) tendered for filing in the above-referenced docket, Rate Schedules 45 and 46 applicable to sales-for-resale service to Mohave Electric Cooperative

Comment Date: March 24, 2003.

8. Deseret Generation & Transmission Co-operative, Inc.

[Docket No. ER03-585-000]

Take notice that on March 3, 2003 Deseret Generation & Transmission Co-operative, Inc. (Deseret) tendered for filing an amendment to First Revised Service Agreement No. 5 under Deseret's FERC Electric Tariff, Original Volume 1. The amendment includes a second amended and restated Wholesale Power Agreement For Large Industrial Loads (Implementing Deseret Rate Schedule ML-COG1) between Deseret and Moon Lake Electric Association, Inc.

Deseret states that copies of this filing have been served upon Deseret's member cooperatives.

Comment Date: March 24, 2003.

9. New York State Electric & Gas Corporation

[Docket Nos. ER03-587-000]

Take notice that on March 3, 2003, New York State Electric & Gas Corporation (NYSEG) tendered for filing revisions to its revised retail tariff leaves relating to borderline sales. NYSEG's borderline sales contracts and prior revisions thereto are part of FERC Rate Schedules No. 30, 27, 28, 30, 32, 33, and 105.

NYSEG states that copies of the filing have been served on all parties listed on the New York State Public Service Commission and on the Borderline Utilities.

Comment Date: March 24, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-6021 Filed 3-12-03; 8:45 am]

BILLING CODE 6717-01-P